DEPARTMENT OF TRANSPORTATION

Office of the Secretary

Minority Business Resource Center Advisory Committee; Meeting

Pursuant to section 10(a)(2) of the Federal Advisory Committee Act (Pub. L. 92-463; 5 U.S.C. App. 1), notice is hereby given of a meeting of the Minority Business Resource Center Advisory Committee to be held Tuesday, April 18, 2000, from 10 a.m.-12 p.m. at the Department of Transportation, 400 7th Street, SW., Room 4438-4440, Washington, DC.

The agenda for the meeting is as follows:

— Advocacy

— DOT DBE Program

— Small Business Programs

— Outreach

— Financial Services

Attendance is open to the interested public but limited to the space available. With the approval of the Chairman, members of the public may present oral statements at the meeting. Persons wishing to attend and persons wishing to present oral statements should notify the Office of Small and Disadvantaged Business Utilization, Minority Business Resource Center by 4:00 p.m. on Monday, April 10, 2000. Information pertaining to the meeting may be obtained from Mrs. Marie A. Hendricks, Office of Small and Disadvantaged Business Utilization, 400 7th Street, SW., Washington, DC 20590, telephone (202) 366-1930 or (800) 532-1169. Any member of the public may present a written statement to the Committee at any time.

Issued in Washington, DC on March 13, 2000.
Luz A. Hopewell,
Director, Office of Small and Disadvantaged Business Utilization.

[FR Doc. 00-6682 Filed 3-16-00; 8:45 am]

BILLING CODE 4910-62-P